DEPARTMENT OF HEALTH AND HUMAN SERVICES

Health Resources and Services Administration

Announcement of a Change to the Awarding Factors Under the Fiscal Year 2007 New Access Points in High Poverty Counties (HRSA-07-069) Grant Opportunity

AGENCY: Health Resources and Services Administration (HRSA), HHS.

ACTION: Revision to awarding factors.

SUMMARY: The Health Resources and Services Administration (HRSA) is announcing a change to the awarding factors under the HRSA-07-069 “New Access Points in High Poverty Counties” funding opportunity [issued on Grants.gov March 14, 2007] as they relate to awards made under the HRSA-07-067 “New Access Points” funding opportunity for the President's first Health Centers Initiative [issued on Grants.gov October 6, 2006].

In making award decisions for fiscal year (FY) 2007, HRSA will now consider granting the same organization a new access point award under HRSA-07-067 and HRSA-07-069. HRSA will consider more than one FY 2007 new access point award to an organization if, and only if each application submitted (by the same organization for the two different funding opportunities) proposes a separate and distinct project to serve different counties. That is, there must be no overlap or duplication of service area, target population, or sites. (Under previous HRSA policy, if an organization receives a grant award in FY 2007 under the first opportunity, HRSA-07-067, it could not be awarded funds in FY 2007 under HRSA-07-069). Applicants for HRSA-07-069 should also be aware that each new access point application must be complete and must be able to stand alone.

The changes announced in this Federal Register Notice do not impact any HRSA policy for eligibility under the HRSA-07-069. Organizations continue to be eligible to submit one application under HRSA-07-069, irrespective of whether they applied under HRSA-07-067 or not. Additionally, all other awarding factors detailed in HRSA-07-069 remain the same.

Reference: HRSA-07-069 is available online via the HRSA Web site at: http://www.hrsa.gov/grants/technicalassistance/pi2nap.htm or http://www.grants.gov.

FOR FURTHER INFORMATION CONTACT: Preeti Kanodia, Division of Policy and Development, Bureau of Primary Health Care, Health Resources and Services Administration. Ms. Kanodia may be contacted by e-mail at DPDGeneral@hrsa.gov or via telephone at (301) 594-4300.

Dated: May 2, 2007.
Dennis P. Williams,
Deputy Administrator.

[FR Doc. E7-8712 Filed 5-7-07; 8:45 am]

BILLING CODE 4165-15-P